DEPARTMENT OF STATE

[Public Notice 8374]

60-Day Notice of Proposed Information Collection: Exchange Programs Alumni Web Site Registration

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to September 6, 2013.

ADDRESSES: You may submit comments by any of the following methods:

• Web: Persons with access to the Internet may use the Federal Docket Management System (FDMS) to comment on this notice by going to www.Regulations.gov. You can search for the document by entering “Public Notice 8374” in the Search bar. If necessary, use the Narrow by Agency filter option on the Results page.

• Email: suhch@state.gov

• Mail: Bureau of Educational and Cultural Affairs; U.S. Department of State; SA-5, Room C2-C20; Washington, DC 20522-0503

You must include the DS form number (if applicable), information collection title, and the OMB control number in any correspondence.

FOR FURTHER INFORMATION CONTACT: Direct requests for additional information regarding the collection listed in this notice, including requests for copies of the proposed collection instrument and supporting documents, to Chang Suh, Alumni Outreach Specialist, Bureau of Educational and Cultural Affairs; U.S. Department of State; SA-5, Room C2-C20; Washington, DC 20522-0503, who may be reached on 202-632-6183 or at SuhCH@state.gov.

SUPPLEMENTARY INFORMATION:

• Title of Information Collection: Exchange Programs Alumni Web site Registration

• OMB Control Number: 1405-0192

• Type of Request: Extension of an Approved Request

• Originating Office: Bureau of Educational and Cultural Affairs, ECA/P/A

• Form Number: DS-7006

• Respondents: Exchange program alumni and current participants of U.S. government-sponsored exchange programs

• Estimated Number of Respondents: 20,000

• Estimated Number of Responses: 20,000

• Average Time Per Response: 10 minutes

• Total Estimated Burden Time: 3,333 hours

• Frequency: One time per respondent

• Obligation to Respond: Required to Obtain or Retain a Benefit

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The International Exchange Alumni Web site requires information to process users' voluntary request for participation in the International Exchange Alumni Web site. Other than contact exchange program information, which is required for Web site registration, all other information is provided on a voluntary basis. Participants also have the option of restricting access to their information.

Respondents to this registration form are U.S. government-sponsored exchange program participants and alumni. Alumni Affairs collects data from users to not only verify their status or participation in a program, but to help alumni network with one another and aid embassy staff in their alumni outreach.

Methodology:

Information provided for registration is collected electronically via the Alumni Web site, alumni.state.gov.

Additional Information:

International Exchange Alumni is a secure, encrypted Web site.

Dated: July 1, 2013.
Tania Chomiak-Salvi,
Director, Office of Policy and Evaluation, Bureau of Educational and Cultural Affairs, Department of State.

[FR Doc. 2013-16335 Filed 7-5-13; 8:45 am]

BILLING CODE 4701-05-P